DEPARTMENT OF HEALTH AND HUMAN SERVICES

Administration for Children and Families

Submission for OMB Review; Comment Request

Title: Community-Based Abstinence Education Performance Progress Report.

OMB No.: 0970-0272.

Description: The discretionary funding Community-Based Abstinence Education Program (CBAE) is authorized by Title XI, Section 1110, of the Social Security Act (using the definitions contained in Title V, Section 510(b)(2) of the Social Security Act).

Performance Progress Report/Program Narrative

The CBAE Performance Progress Report/Program Narrative is a semiannual report form through which grantees report performance information used by the Administration for Children and Families (ACF) to evaluate each grantee's compliance with Federal law and progress toward achieving its goals. Performance information includes:

Description of major activities and accomplishments during the reporting period;

Description of deviations or departures from the original project;

Description of significant findings and events;

Description of dissemination activities;

Description of other activities; and

Description of activities planned for the next reporting period, including goals and objectives.

Program-Specific Performance Measure

The CBAE program is developing a program-specific performance measure in response to the PART review (a process by which the Office of Management and Budget analyzes and rates a Federal program's procedures and strategies for evaluating its effectiveness), for which the program received a rating of Adequate. In an effort to gather program-specific data on rates of abstinence pre- and post-program participation, ACF and the Office of Management and Budget determined that a program-specific performance measure should be developed to assess key outcomes among program participants. The CBAE office convened a panel of abstinence education experts to gather input on the measure, and, based on the input provided, the CBAE office is developing the measure. CBAE grantees will be required to ask ten to fifteen questions of the youth served in a pre- and post-survey, as well as a representative sample of the youth served in a post-post-survey.

The questions are being carefully constructed by an experienced evaluator to measure initiation and discontinuation of sexual intercourse as well as two key predictors of initiation: Sexual values and behavioral intentions.

The program office will collect and compile data to establish baselines and ambitious targets for the program-specific performance measure. The data will be aggregated and results will be shared with the public as they become available.

Respondents: Performance Progress Report/Program Narrative—Non-profit community-based organizations, faith-based organizations, schools/school districts, universities/colleges, hospitals, public health agencies, local governments, Tribal councils, small businesses/for-profit entities, housing authorities, etc. Program-Specific Performance Measure—Youth Participants.

Annual Burden Estimates
Instrument | Number of respondents | Number of responses per respondent | Average burden hours per response | Total burden hours
Community-Based Abstinence Education Program Announcement Performance Progress Report/Program Narrative | 60 | 2 | 50 | 6,000
Community-Based Abstinence Education Program—Program-Specific Performance Measure | 1,000,000 | 3 | 0.17 | 510,000

Estimated Total Annual Burden Hours: 516,000

Additional Information

Copies of the proposed collection may be obtained by writing to the Administration for Children and Families, Office of Administration, Office of Information Services, 370 L'Enfant Promenade, SW., Washington, DC 20447, Attn: ACF Reports Clearance Officer. All requests should be identified by the title of the information collection. E-mail address: infocollection@acf.hhs.gov.

OMB Comment

OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, Fax: 202-395-6974, Attn: Desk Officer for the Administration for Children and Families.

Dated: October 20, 2008.
Janean Chambers,
Reports Clearance Officer.

[FR Doc. E8-25285 Filed 10-22-08; 8:45 am]

BILLING CODE 4184-01-P